DEPARTMENT OF THE INTERIOR

Fish and Wildlife Service

Delta National Wildlife Refuge

AGENCY: Fish and Wildlife Service, Department of the Interior.

ACTION: Notice of application for a natural gas pipeline right-of-way on Delta National Wildlife Refuge, Plaquemines Parish, Louisiana.

SUMMARY: Notice is hereby given that under Section 28 of the Mineral Leasing Act of 1920 (41 Stat. 449: 30 U.S.C. 185), as amended by Public Law 93-153, the Southern Natural Gas Company has applied for a permit to remove a 14″ underground natural gas pipeline, and install a new 14″ underground natural gas pipeline in a 50-foot wide right-of-way which will run approximately 10,421 feet in length.

This pipeline right-of-way will be on, over, and across a strip of land lying in Plaquemines Parish, State of Louisiana, Sections 10, 15, and 22 of Township 20 South, Range 19 East, on the West Bank of East Fork of Romere Pass. The Southern Natural Gas Company currently operates a 14″ pipeline and wants to install a new pipeline 200—1,200 feet west of its current location. The land described herein contains approximately 12.59 acres with 7.79 acres in a temporary (1 year) construction servitude. The existing pipeline will be completely removed after the new line has been installed and is operational.

The purpose of this notice is to inform the public that the Fish and Wildlife Service is currently considering the merits of approving this application.

ADDRESSES: Interested persons desiring to comment on this application should do so within thirty (30) days following the date of publication of this notice. If you wish to comment, you may do so by one of the following methods. You may mail comments to Mr. Dwight Stanley, Fish and Wildlife Service, 1875 Century Boulevard, Suite 420, Atlanta, Georgia 30345. You may also comment via the Internet at the following address: dwight_stanley@fws.gov. If you submit comments by electronic mail, please submit them as an ASCII file, avoiding the use of special characters and any form of encryption. Please include your name and return address in your Internet message. If you do not receive a confirmation from the system that we have received your Internet message, contact us at the phone number or address listed in this notice. Our practice is to make comments, including names and home addresses of respondents, available for public review during regular business hours. Individual respondents may request that we withhold their home address from the record, which we will honor to the extent allowable by law.

FOR FURTHER INFORMATION CONTACT: Mr. Dwight Stanley at 404-679-7235; fax 404-679-7273.

Authority: Right-of-way applications are filed in accordance with Section 28 of the Mineral Leasing Act of 1920 (41 Stat. 449:30 U.S.C. 185), as amended by Public Law 93-153.

Dated: September 19, 2002.
Christine Eustis,
Acting Regional Director.

[FR Doc. 02-26051 Filed 10-11-02; 8:45 am]

BILLING CODE 4310-55-M